INTERNATIONAL TRADE COMMISSION

Agency Information Collection Activities; Submission for OMB Review; Renewal of Generic Clearance; Comment Request

AGENCY: International Trade Commission.

ACTION: Notice and comment request.

SUMMARY: Consistent with the Paperwork Reduction Act of 1995 the U.S. International Trade Commission (Commission) has submitted a proposal for the collection of information to the Office of Management and Budget (OMB) for approval. The proposed information collection is a three-year extension of the current generic clearance (approved by OMB under Control No. 3117-0016) under which the Commission can issue information collections for import injury investigations and reviews that it is required to conduct under the Tariff Act of 1930, the Trade Act of 1974, and other trade remedy statutes that require or authorize the Commission to make findings or determinations. These investigations and reviews include: antidumping duty, countervailing duty, safeguards, other import competition, market disruption, interference with programs of the U.S. Department of Agriculture, and cross-border long-haul trucking. A full list of all the investigations and reviews associated with this generic clearance and their associated statutory authorities is available in the Commission's supporting statement to this Federal Register notice. Any comments submitted to OMB on the proposed information collection should be specific, indicating which part of the questionnaires or study plan are objectionable, describing the issue in detail, and including specific revisions or language changes. The Commission did not receive any comments in response to the 60-day notice that it published in the Federal Register on January 5, 2023.

DATES: Comments solicited under this notice must be submitted on or before May 15, 2023.

Comments: Comments about the proposal should be provided to the Office of Management and Budget, Office of Information and Regulatory Affairs through the Information Collection Review Dashboard at https://www.reginfo.gov. All comments should be specific, indicating which part of the renewal request is objectionable, describing the concern in detail, and including specific suggested revisions or language changes. Provide copies of any comments that you submit to OMB to Nancy Snyder, Director, Office of Analysis and Research Services, U.S. International Trade Commission at Nancy.Snyder@usitc.gov and Nannette Christ, Director, Office of Investigations, U.S. International Trade Commission at Nannete.Christ@usitc.gov.

FOR FURTHER INFORMATION CONTACT: You may obtain copies of the proposed collection of information and supporting documentation from Stamen Borisson, Office of Investigations, U.S. International Trade Commission at stamen.borisson@usitc.gov, 202-205-3125, or Zachary Coughlin, Statistical and Data Services Division, U.S. International Trade Commission, at zachary.coughlin@usitc.gov, 202-205-3435. Hearing-impaired persons can obtain information on this matter by contacting the Commission's TDD terminal at 202-205-1810. Persons with mobility impairments who will need special assistance in gaining access to the Commission should contact the Office of the Secretary at 202-205-2000. You may also obtain general information concerning the Commission by accessing its website (http://www.usitc.gov).

SUPPLEMENTARY INFORMATION:

(1) The generic clearance generally covers the collections of six types of forms, as follows: U.S. producers' questionnaire; U.S. importers' questionnaire; U.S. purchasers' questionnaire; Foreign producers'/exporters' questionnaire; Administrative Protective Order (APO) application form; and Notice of Institution (NOI) for five-year reviews.

(2) The types of items contained within actual information collections issued under this generic clearance are largely determined by statute; however, questions are modified to match the specific facts of each investigation or review. Case-specific factors such as the nature of the industry, the relevant economic and legal issues, the ability of respondents to supply the data, as well as the availability of data from secondary sources are all taken into consideration in each investigation and review.

(3) Once the data are collected from the relevant entities in an information collection under this generic clearance, Commission staff consolidates the information collected into compilations, summaries, and statistical aggregations that are then used as the basis for the Commission's determinations or recommendations in the particular investigation or review. Affirmative Commission determinations in antidumping and countervailing duty investigations result in the imposition of duties on imports entering the United States, as determined by the U.S. Department of Commerce, which are in addition to any normal customs duties. If the Commission makes an affirmative determination in a five-year review, the existing antidumping or countervailing duty order remains in place. The President or the U.S. Trade Representative may use the data developed in global and bilateral safeguard, market disruption, interference with U.S. Department of Agriculture program, and cross-border long-haul trucking investigations to determine the type of relief, if any, to be provided to domestic industries.

Parties' submissions of the Commission's APO application form for inclusion on the APO are the basis for determining whether those parties are granted access to business proprietary or confidential business information. The submissions made to the Commission in response to the notices of institution of five-year reviews are the basis for the Commission's determination whether to conduct a full or expedited review.

(4) Likely respondents are businesses (including foreign businesses) or farms that produce, import, purchase, or sell products under investigation. The Commission estimates that information collections issued under the requested generic clearance will impose an average annual burden of 409,250 hours on 12,935 respondents over the next three-year generic clearance period.

(5) No new record keeping burden is known to result from the proposed collection of information.

(6) Note that, in addition to the generic clearance public comment process, for every individual antidumping and countervailing duty final investigation or full five-year review, Commission questionnaires are made available to the public on the Commission's Electronic Document Information System (EDIS) and parties specifically subject to the Commission investigation or review are requested to comment on the case-specific information collections prior to their issuance as part of the Commission's investigatory procedures.

By order of the Commission.
Issued: April 11, 2023.
Lisa Barton,
Secretary to the Commission.

[FR Doc. 2023-07914 Filed 4-13-23; 8:45 am]

BILLING CODE 7020-02-P